FEDERAL EMERGENCY MANAGEMENT AGENCY

Notice of Maximum Amount of Assistance Under the Individuals and Households Program

AGENCY: Federal Emergency Management Agency (FEMA).

ACTION: Notice.

SUMMARY: FEMA gives notice of the maximum amount for assistance under the Individuals and Households Program for emergencies and major disasters declared on or after October 15, 2002.

EFFECTIVE DATE: October 15, 2002.

FOR FURTHER INFORMATION CONTACT: Michael Hirsch, Response and Recovery Directorate, Federal Emergency Management Agency, Washington, DC 20472, (202) 646-4099, or Michael.Hirsch@fema.gov.

SUPPLEMENTARY INFORMATION: Section 408 of the Robert T. Stafford Disaster Relief and Emergency Assistance Act, 42 U.S.C. 5174, prescribes that we (FEMA) must annually announce the maximum amount for assistance provided under the Individuals and Households (IHP) Program. We give notice that the maximum amount of any IHP financial assistance provided to an individual or household under section 408 of the Act with respect to any single emergency or major disaster is $25,000 for any emergencies or major disasters declared on or after October 15, 2002.

(Catalog of Federal Domestic Assistance No. 83.558, Individual and Household—Housing; 83.559, Individual and Household—Disaster Housing Operations; 83.560, Individual and Household—Other Needs)
Joe M. Allbaugh,
Director.

[FR Doc. 02-26793 Filed 10-21-02; 8:45 am]

BILLING CODE 6718-02-P